DEPARTMENT OF TRANSPORTATION

Office of the Secretary

Aviation Proceedings, Agreements Filed the Week Ending June 23, 2006

The following Agreements were filed with the Department of Transportation under Sections 412 and 414 of the Federal Aviation Act, as amended (49 U.S.C. 1382 and 1384) and procedures governing proceedings to enforce these provisions. Answers may be filed within 21 days after the filing of the application.

Docket Number: OST-2006-25151.

Date Filed: June 19, 2006.

Parties: Members of the International Air Transport Association.

Subject:

Mail Vote 490—Resolution 010q

TC3 Within South Asian Subcontinent

Special Passenger Amending Between Sri Lanka and India (Memo 0983).

Intended effective date: 31 October 2006.

Docket Number: OST-2006-25170.

Date Filed: June 20, 2006.

Parties: Members of the International Air Transport Association.

Subject:

CAC/34/Meet/011/06 dated 15 June 2006

Normal Resolutions 801/801a/801r/801re/803/805/805zz/807/809/809zz/813/815/815e

(Minutes relevant to the Resolutions are included in CAC/34/Meet/010/06 dated 14 June 2006).

Intended effective date: 1 October 2006.

Docket Number: OST-2006-25172.

Date Filed: June 20, 2006.

Parties: Members of the International Air Transport Association.

Subject:

TC2 Within Europe

Expedited Resolutions (Memo 0636)

Minutes: TC2 Within Europe (Memo 0637).

Intended effective date: 15 July 2006.

Docket Number: OST-2006-25179.

Date Filed: June 21, 2006.

Parties: Members of the International Air Transport Association.

Subject:

Mail Vote 491—Resolution 010r

TC3 Japan, Korea-South East Asia Special Passenger Amending between Japan and Russia (in Asia) (Memo 0984).

Intended effective date: 1 July 2006.

Renee V. Wright,
Program Manager, Docket Operations, Federal Register Liaison.

[FR Doc. E6-11036 Filed 7-12-06; 8:45 am]

BILLING CODE 4910-9X-P